ENVIRONMENTAL PROTECTION AGENCY

[FRL-9491-5]

Notification of a Public Teleconference of the Chartered Science Advisory Board

AGENCY: Environmental Protection Agency (EPA).

ACTION: Notice.

SUMMARY: The EPA Science Advisory Board (SAB) Staff Office announces a public teleconference of the Chartered SAB on December 6, 2011 to receive an update on EPA strategic research directions and to conduct quality reviews of two draft SAB reports, a draft Review of Great Lakes Restoration Initiative Action Plan and draft SAB Recommendations for EPA's FY2011 Scientific and Technological Achievement Awards (STAA).

DATES: The public teleconference will be held on December 6, 2011 from 12 p.m. to 3 p.m. (Eastern Daylight Time).

ADDRESSES: The public teleconference will be conducted by telephone only.

FOR FURTHER INFORMATION CONTACT: Any member of the public wishing to obtain general information concerning the public teleconference may contact Dr. Angela Nugent, Designated Federal Officer (DFO). Dr. Nugent may be contacted at the EPA Science Advisory Board (1400R), U.S. Environmental Protection Agency, 1200 Pennsylvania Avenue, NW., Washington, DC 20460; or by telephone/voice mail at (202) 564-2218; fax at (202) 565-2098; or email at nugent.angela@epa.gov. General information concerning the EPA Science Advisory Board can be found on the EPA Web site at http://www.epa.gov/sab.

SUPPLEMENTARY INFORMATION: The SAB was established pursuant to the Environmental Research, Development, and Demonstration Authorization Act (ERDAA), codified at 42 U.S.C. 4365, to provide independent scientific and technical advice to the EPA Administrator on the technical basis for Agency positions and regulations. The SAB is a Federal Advisory Committee chartered under the Federal Advisory Committee Act (FACA), 5 U.S.C., App. 2. Pursuant to FACA and EPA policy, notice is hereby given that the SAB will hold a public teleconference to receive an update on EPA strategic research directions and to conduct quality reviews of two draft SAB reports, a draft SAB Recommendations for EPA's FY2011 Scientific and Technological Achievement Awards (STAA) and a draft Review of Great Lakes Restoration Initiative Action Plan. The SAB will comply with the provisions of FACA and all appropriate SAB Staff Office procedural policies.

Background

(1) Update on Office of Research and Development (ORD) Strategic Research Directions

At ORD's request, the SAB provided joint advice with ORD's Board of Scientific Counselors on strategic research directions through an October 2011 report, Office of Research and Development (ORD) New Strategic Research Directions: A Joint Report of the Science Advisory Board (SAB) and ORD Board of Scientific Councilors (BOSC) (EPA-SAB-12-001). The ORD Deputy Associate Administrator for Science will provide an update on ORD activities in this area and discuss ORD's request for additional SAB advice.

(2) EPA's Scientific and Technological Achievement Awards (STAA)

At ORD's request, the Science Advisory Board makes recommendations to the Administrator concerning nominations for the Agency's FY 2011 Scientific and Technological Achievement Awards. These awards are established to honor and recognize EPA employees who have made outstanding contributions in the advancement of science and technology through their research and development activities, as exhibited in publication of their results in peer-reviewed journals.

An SAB committee reviewed the nominations and prepared a draft report making recommendations for the Administrator's consideration for FY 2011 recognition and awards. Background information about this advisory activity can be found on the SAB Web site at http://yosemite.epa.gov/sab/sabproduct.nsf/fedrgstr_activites/2011%20STAA?OpenDocument.

(3) Review of Great Lakes Restoration Initiative Action Plan

EPA is leading an interagency Great Lakes Restoration Initiative (GLRI) to protect and restore the chemical, biological, and physical integrity of the Great Lakes. The GLRI is designed to target the most significant environmental problems in the region. To guide the efforts of the GLRI, EPA and its Federal partners, through the Great Lakes Interagency Task Force, developed a comprehensive multi-year Action Plan. The EPA Great Lakes National Program Manager requested the SAB to review the GLRI Action Plan to assess the appropriateness of its measures and actions to achieve its stated priorities and goals.

An SAB panel reviewed the EPA's action plan and prepared a draft report that will undergo quality review by the chartered SAB. Background information about this advisory activity can be found on the SAB Web site at: http://yosemite.epa.gov/sab/sabproduct.nsf/fedrgstr_activites/Review%20of%20GLRI%20Action%20Plan?OpenDocument.

Availability of Meeting Materials: The agenda and other materials in support of the teleconference will be placed on the SAB Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for the SAB to consider or if it relates to the clarity or accuracy of the technical information. Members of the public wishing to provide comment should contact the Designated Federal Officer directly. Oral Statements: In general, individuals or groups requesting an oral presentation at a teleconference will be limited to three minutes. Those interested in being placed on the public speakers list for the December 6, 2011 teleconference should contact Dr. Nugent at the contact information provided above no later than December 1, 2011. Written Statements: Written statements should be supplied to the DFO via email at the contact information noted above by December 1, 2011 for the teleconference so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site.

Copyrighted material will not be posted without explicit permission of the copyright holder.

Accessibility: For information on access or services for individuals with disabilities, please contact Dr. Nugent (202) 564-2218 or nugent.angela@epa.gov. To request accommodation of a disability, please contact Dr. Nugent preferably at least ten days prior to the teleconference to give EPA as much time as possible to process your request.

Dated: November 3, 2011.
Vanessa T. Vu,
Director, EPA Science Advisory Board Staff Office.

[FR Doc. 2011-29299 Filed 11-10-11; 8:45 am]

BILLING CODE 6560-50-P